DEPARTMENT OF HEALTH AND HUMAN SERVICES

National Committee on Vital and Health Statistics: Meeting

Pursuant to the Federal Advisory Committee Act, the Department of Health and Human Services (HHS) announces the following advisory committee meeting.

Name: National Committee on Vital and Health Statistics (HCVHS).

Time and Date: February 22, 2006, 9 a.m.-2:30 p.m.; February 23, 2006, 10 a.m.-1:15 p.m.

Place: Hubert H. Humphrey Building, 200 Independence Avenue, SW., Room 705A, Washington, DC 20201.

Status: Open.

Purpose: At this meeting the Committee will hear presentations and hold discussions on several health data policy topics. On the morning of the first day the Committee will hear updates and status reports from the Department on various topics including activities of the HHS Data Council, and updates on HIPAA implementation, clinical data standards, the E-Prescribing Final Rule, and Privacy Rule compliance. They will also hear any updates on data issues and opportunities from Hurricanes Katrina and Rita, and on activities of the Office of the National Coordinator for Health Information Technology. In the afternoon the Committee will be briefed on the Institute on Medicine's recent report on performance monitoring.

On the morning of the second day the Committee will hear an update on the National Health Information Network report and a presentation on data release and confidentiality issues for vital statistics led by a representative of the National Center for Health Statistics. In the afternoon, there will be reports from the Subcommittees and a discussion of agendas for future Committee meetings.

The times shown above are for the full Committee meeting. Subcommittee breakout sessions are scheduled for late in the afternoon of the first day and in the morning prior to the full Committee meeting on the second day. Agendas for these breakout sessions will be posted on the NCVHS Web site (URL below) when available.

For Further Information Contact: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the HCVHS home page of the HHS Web site: http://www.ncvhs.hhs.gov/, where further information including an agenda will be posted when available.

Should you require reasonable accommodation, please contact the CDC Office of Equal Employment Opportunity on (301) 458-4EEO (4336) as soon as possible.

Dated: January 25, 2006.
James Scanlon,
Deputy Assistant Secretary for Planning and Evaluation (OSDP), Office of the Assistant Secretary for Planning and Evaluation.

[FR Doc. 06-1005 Filed 2-2-06; 8:45 am]

BILLING CODE 4151-05-M